DEPARTMENT OF TRANSPORTATION

Federal Highway Administration

Environmental Impact Statement: Butte County, California

AGENCY: Federal Highway Administration (FHWA), DOT

ACTION: Notice of intent.

SUMMARY: The FHWA is issuing this notice to advise the public that an environmental impact statement will be prepared for a proposed highway project in Butte County, California.

FOR FURTHER INFORMATION CONTACT: R. Clayton Slovensky, Acting Team Leader, Program Delivery Team—North, Federal Highway Administration, California Division, 980 Ninth Street, Suite 400, Sacramento, California 95814, Telephone: (916) 498-5774.

SUPPLEMENTARY INFORMATION: The FHWA, in cooperation with the California Department of Transportation (Caltrans), will prepare an environmental impact statement (EIS) for a proposed gap-closure project on State Route (SR) 149 in Butte County, California. The proposed improvement would include upgrading the 4.6 miles of SR 149 to a 4-lane expressway, and constructing freeway-to-freeway interchanges at the existing SR 70/149 and SR 99/149 intersections.

Improvements to the corridor are considered necessary to improve safety, provide for existing and projected traffic demand, and to accommodate interregional traffic between the cities of Oroville and Chico, California. Alternatives under consideration include (1) taking no action; (2) constructing two additional lanes and a median on the south side of SR 149; (3) constructing two additional lanes and a median on the north side of SR 149; and (4) upgrading SR 149 by a combination of widening to the south and to the north.

Letters describing the proposed action and soliciting comments will be sent to appropriate Federal, State and local agencies, and to private organizations and citizens who have previously expressed or are known to have interest in this proposal. In addition, a public workshop will be held, with public notice being given of the time and location. The draft EIS will be available for public and agency review and comment prior to the public workshop. No formal scoping meeting is planned at this time.

To ensure that the full range of issues related to this proposed action are addressed and all significant issues are identified, comments and suggestions are invited from all interested parties. Comments or questions concerning this proposed action and the EIS should be directed to the FHWA at the address provided above.

(Catalog of Federal Domestic Assistance Program Number 20.205, Highway Planning and Construction. The regulations implementing Executive Order 12372 regarding intergovernmental consultation on Federal programs and activities apply to this program.)
Issued on: August 9, 2001.
R. Clayton Slovensky,
Acting Chief, Program Delivery—North Sacramento, California.

[FR Doc. 01-20645 Filed 8-15-01; 8:45 am]

BILLING CODE 4910-22-M